DEPARTMENT OF COMMERCE

National Telecommunications and Information Administration

First Responder Network Authority

First Responder Network Authority Combined Committee and Board Meeting

AGENCY: First Responder Network Authority (“FirstNet Authority”), U.S. Department of Commerce.

ACTION: Notice of open public meetings.

SUMMARY: The Board of the First Responder Network Authority (“FirstNet Authority Board”) will convene a meeting of the FirstNet Authority Board and the Committees of the Board of the First Responder Network Authority (“Board Committees”) that will be open to the public via teleconference and WebEx on June 20, 2018.

DATES: A combined meeting of the Board Committees and the FirstNet Authority Board will be held on June 20, 2018, between 10:00 a.m. and 1:00 p.m., Eastern Daylight Time (EDT). The meeting of the FirstNet Authority Board and the Governance and Personnel, Technology, Public Safety Advocacy, and Finance Committees will be open to the public via teleconference and WebEx only from 10:00 a.m. to 1:00 p.m. EDT.

ADDRESSES: The combined meeting of the FirstNet Authority Board and Board Committees will be conducted via teleconference and WebEx only. Members of the public may listen to the meeting by dialing toll free 1-888-324-9653 and using passcode 4609182. To view the slide presentation, the public may visit the URL: URL: https://www.mymeetings.com/nc/join/ and enter Conference number PWXW7524794 and audience passcode 4609182. Alternatively, members of the public may view the slide presentation by directly visiting the URL: https://www.mymeetings.com/nc/join.php?i=PWXW7524794&p=4609182&t=c.

FOR FURTHER INFORMATION CONTACT: Karen Miller-Kuwana, Board Secretary, FirstNet Authority, 12201 Sunrise Valley Drive, M/S 243, Reston, VA 20192; telephone: (571) 665-6177; email: Karen.Miller-Kuwana@firstnet.gov. Please direct media inquiries to Ryan Oremland at (571) 665-6186.

SUPPLEMENTARY INFORMATION: This notice informs the public that the FirstNet Authority Board and Board Committees will convene a combined meeting open to the public via teleconference and WebEx only on June 20, 2018.

Background: The Middle Class Tax Relief and Job Creation Act of 2012 (47 U.S.C. 1401 et seq.)) (“the Act”) established the FirstNet Authority as an independent authority within the National Telecommunications and Information Administration that is headed by a Board. The Act directs the FirstNet Authority to ensure the building, deployment, and operation of a nationwide, interoperable public safety broadband network. The FirstNet Authority Board is responsible for making strategic decisions regarding the FirstNet Authority's operations. The FirstNet Authority Board held its first public meeting on September 25, 2012.

Matters to be Considered: The FirstNet Authority will post a detailed agenda for the combined meeting of the Board Committees and FirstNet Authority Board meeting on its website, http://www.firstnet.gov, prior to the meetings. The agenda topics are subject to change. Please note that the subjects that will be discussed by the Board Committees and the FirstNet Authority Board may involve commercial or financial information that is privileged or confidential or other legal matters affecting the FirstNet Authority. As such, the Board Committee Chairs and Board Chair may call for a vote to close the meetings only for the time necessary to preserve the confidentiality of such information, pursuant to 47 U.S.C. 1424(e)(2).

Times and Dates of Meeting: A combined meeting of the FirstNet Authority Board and Board Committees will be held on June 20, 2018, between 10:00 a.m. and 1:00 p.m., Eastern Daylight Time (EDT). The meeting of the FirstNet Authority Board and Board Committees will be open to the public via teleconference and WebEx from 10:00 a.m. to 1:00 p.m. EDT. The times listed above are subject to change. Please refer to FirstNet's website at www.firstnet.gov for the most up-to-date information.

Place: The combined meeting of the FirstNet Authority Board and Board Committees will be conducted via teleconference and WebEx.

Other Information: The combined meeting of the Board Committees is open to the public via teleconference and WebEx only. On the date and time of the meeting, members of the public may listen to the meeting by dialing toll free 1-888-324-9653 and using passcode 4609182. To view the slide presentation, the public may visit the URL: URL: https://www.mymeetings.com/nc/join/ and enter Conference number PWXW7524794 and audience passcode 4609182. Alternatively, members of the public may view the slide presentation by directly visiting the URL: https://www.mymeetings.com/nc/join.php?i=PWXW7524794&p=4609182&t=c.

If you experience technical difficulty, please contact the Conferencing Center customer service at 1-866-900-1011. Public access will be limited to listen-only. Due to the limited number of ports, attendance via teleconference will be on a first-come, first-served basis.

The FirstNet Authority Board and Combined Committee Meeting is accessible to people with disabilities. Individuals requiring accommodations are asked to notify Ms. Miller-Kuwana by telephone (571) 665-6177 or email at Karen.Miller-Kuwana@firstnet.gov at least five (5) business days before the applicable meeting.

Records: The FirstNet Authority maintains records of all FirstNet Authority Board proceedings. Minutes of the FirstNet Authority Board Meeting and the Board Committee Meetings will be available at www.firstnet.gov.

Dated: June 8, 2018.
Karen Miller-Kuwana,
Board Secretary, First Responder Network Authority.

[FR Doc. 2018-12816 Filed 6-13-18; 8:45 am]

BILLING CODE 3510-TL-P